NATIONAL SCIENCE FOUNDATION

Advisory Committee for Cyberinfrastructure; Notice of Meeting

In accordance with the Federal Advisory Committee Act (Pub. L. 92-463, as amended), the National Science Foundation announces the following meeting:

Name: Advisory Committee for Cyberinfrastructure (#10719).

Date/Time: Friday, April 19, 2002, 1:00 p.m. to 4:00 p.m. EST.

Place: Room 555 Stafford II, National Science Foundation, 4121 Wilson Boulevard, Arlington, VA.

Type of Meeting: Open Meeting. Persons wishing to attend the meeting at NSF should contact Richard Hilderbrandt to arrange for a visitor's pass.

Contact Persons: Dr. Richard Hilderbrandt, Program Director, Division of Advanced Computational Infrastructure and Research, Suite 1122, National Science Foundation, 4201 Wilson Boulevard, Arlington, VA 22230, Tel: (703) 292-7093, e-mail: rhilderb@nsf.gov.

Purpose of Meeting: To present a first draft of the committee report.

Agenda

(Meeting will begin promptly at 1:00 PM EST)

1. Review of status of the panel's activities and goals for this meeting.

2. Reports from the authoring sub-committees.

3. Review and discussion of the working draft of the report.

4. Discussion of primary recommendations.

5. Stewardship and additional use of the material gathered by the Panel.

6. Summary of additional activities to create final version of report.

7. Matters arising.

Dated: March 28, 2002.
Karen J. York,
Committee Management Officer.

[FR Doc. 02-8006 Filed 4-2-02; 8:45 am]

BILLING CODE 7555-01-M